DEPARTMENT OF COMMERCE

International Trade Administration

North American Free-Trade Agreement, Article 1904; NAFTA Panel Reviews; Completion of Panel Review

AGENCY: NAFTA Secretariat, United States Section, International Trade Administration, Department of Commerce.

ACTION: Notice of Completion of Panel Review of the final determination made by the U.S. International Trade Administration, in the matter of Certain Softwood Lumber Products from Canada, CVD determination, Secretariat File No. USA-CDA-2002-1904-03.

SUMMARY: Pursuant to the negotiated settlement agreement between the United States and Canadian Governments, which terminated the Request for an Extraordinary Challenge Committee, this Binational Panel review is completed effective October 12, 2006. The panel appointed to this review has been dismissed in accordance with the Rules of Procedure for Article 1904 Binational Panel Review, effective October 12, 2006.

FOR FURTHER INFORMATION CONTACT: Caratina L. Alston, United States Secretary, NAFTA Secretariat, Suite 2061, 14th and Constitution Avenue, Washington, DC 20230, (202) 482-5438.

SUPPLEMENTARY INFORMATION: Pursuant to the negotiated settlement agreement between the United States and Canadian Governments, the United States withdrew the request for an Extraordinary Challenge Committee Review, which was filed on April 27, 2006. The negotiated settlement became effective on October 12, 2006. The Extraordinary Challenge Committee was to review the decisions of the Binational Panel that reviewed the final determination and remand determinations by the United States Department of Commerce in “The Matter of Certain Softwood Lumber Products from Canada: Final Affirmative Countervailing Duty Determination, Secretariat File No. USA-CDA-2002-1904-03”. Therefore, on the basis of the negotiated settlement between the United States and Canada, the panel review was completed and the panelists discharged from their duties effective October 12, 2006.

Dated: October 13, 2006.
Caratina L. Alston,
United States Secretary, NAFTA Secretariat.

[FR Doc. E6-17405 Filed 10-18-06; 8:45 am]

BILLING CODE 3510-GT-P